DEPARTMENT OF COMMERCE

National Oceanic and Atmospheric Administration

[RTID 0648-XC029]

New England Fishery Management Council; Public Meeting

AGENCY: National Marine Fisheries Service (NMFS), National Oceanic and Atmospheric Administration (NOAA), Commerce.

ACTION: Notice of public meeting.

SUMMARY: The New England Fishery Management Council (Council) is scheduling a public meeting of its Groundfish Recreational Advisory Panel via webinar to consider actions affecting New England fisheries in the exclusive economic zone (EEZ). Recommendations from this group will be brought to the full Council for formal consideration and action, if appropriate.

DATES: This webinar will be held on Wednesday, June 1, 2022, at 9:30 a.m. Webinar registration URL information: https://attendee.gotowebinar.com/register/8625727416827386891.

ADDRESSES: Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Groundfish Recreational Advisory Panel will meet to discuss development of draft specifications and measures: Status determination criteria, rebuilding plans for Gulf of Maine (GOM) cod and Southern New England/Mid-Atlantic (SNE/MA) winter flounder, FY2023-24 US/CA total allowable catches, FY2023-24 specifications: Georges Bank (GB) yellowtail flounder and GB cod (including a catch target for the recreational fishery), FY2023-25 specifications for 14 stocks, additional measures to promote stock rebuilding for GOM cod and SNE/MA winter flounder, and revised acceptable biological catch control rules, in consultation with the Scientific and Statistical Committee. They will also discuss a Council priority to develop a transition plan for Atlantic cod management from the current two management unit to up to five management units (multi-year priority). As a part of the transition plan, there will be a white paper on potential approaches to allocate “Georges Bank cod” to the recreational fishery delivered in 2022 to inform the 2023 priorities discussion.

The panel will review the current list of Council research priorities and suggest changes or additions to the list. Other business, as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: May 9, 2022.
Rey Israel Marquez,
Acting Deputy Director, Office of Sustainable Fisheries, National Marine Fisheries Service.

[FR Doc. 2022-10334 Filed 5-12-22; 8:45 am]

BILLING CODE 3510-22-P